DEPARTMENT OF ENERGY

Federal Energy Regulatory Commission

[Docket No. RP02-132-006]

Viking Gas Transmission Company; Notice of Refund Report

January 16, 2003.

Take notice that on December 13, 2002, Viking Gas Transmission Company (Viking) tendered for filing a report of refunds in accordance with the Offer of Settlement and Stipulation and Agreement filed by Viking on September 13, 2002, in the above-referenced docket and approved by the Commission by order issued November 8, 2002.

Viking states that copies of its filing have been served on all parties designated on the official service list in this proceeding, and on all Viking's jurisdictional customers and to affected state regulatory commissions.

Any person desiring to protest said filing should file a protest with the Federal Energy Regulatory Commission, 888 First Street, NE., Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 23, 2003.

Magalie R. Salas,
Secretary.

[FR Doc. 03-1510 Filed 1-22-03; 8:45 am]

BILLING CODE 6717-01-P